DEPARTMENT OF HOMELAND SECURITY

Coast Guard

[USCG-2005-22266]

Great Lakes Pilotage Advisory Committee; Vacancies

AGENCY: Coast Guard, DHS.

ACTION: Request for applications.

SUMMARY: The Coast Guard seeks applications for membership on the Great Lakes Pilotage Advisory Committee (GLPAC). GLPAC provides advice and makes recommendations to the Secretary on a wide range of issues related to pilotage on the Great Lakes, including the rules and regulations that govern the registration, operating requirements, and training policies for all U.S. registered pilots. The Committee also advises on matters related to ratemaking to determine the appropriate charge for pilot services on the Great Lakes.

DATES: Completed application forms should reach us on or before November 31, 2005.

ADDRESSES: You may request an application form by writing to GLPAC Application; Commandant (G-MWP-1), Room 1406; U.S. Coast Guard; 2100 Second Street, SW., Washington, DC 20593-0001; by calling (202) 267-2384; or by faxing (202) 267-4700. Send your original completed and signed application in written form to the above street address. This notice and the application are available on the Internet at http://dms.dot.gov and the application form is also available at http://www.uscg.mil/hq/g-m/advisory/index.htm.

FOR FURTHER INFORMATION CONTACT: Mr. John Bobb; Executive Secretary of GLPAC, telephone (202) 267-2384, fax (202) 267-4700, or mailto:jbobb@comdt.uscg.mil.

SUPPLEMENTARY INFORMATION: The Great Lakes Pilotage Advisory Committee (GLPAC) is a Federal advisory committee under 5 U.S.C. App. 2. It advises the Secretary on a wide range of issues related to pilotage on the Great Lakes. GLPAC meets at least once a year at Coast Guard Headquarters, Washington, DC, or another location selected by the Coast Guard. It may also meet for extraordinary purposes. Its working groups may meet to consider specific problems as required.

Applications are being considered for three positions whose terms have expired. Applications will be considered from persons representing three industry groups; Great Lakes vessel operators that contract for Great Lakes pilotage services, Great Lakes ports, and Great Lakes shippers. One appointment will be made to represent the Great Lakes vessel operators, one to represent the Great Lakes ports, and one to represent Great Lakes shippers.

To be eligible, applicants should have particular expertise, knowledge, and experience regarding the regulations and policies on the pilotage of vessels on the Great Lakes, and at least 5 years practical experience in maritime operations. Each member serves for a term of 3 years and may be reappointed for one additional term. All members serve at their own expense but receive reimbursement for travel and per diem expenses from the Federal Government.

In support of the policy of the Department of Homeland Security on gender and ethnic diversity, we encourage qualified women and members of minority groups to apply.

Dated: September 6, 2005.
Howard L. Hime,
Acting Director of Standards, Marine Safety, Security and Environmental Protection.

[FR Doc. 05-19587 Filed 9-29-05; 8:45 am]

BILLING CODE 4910-15-P